DEPARTMENT OF TRANSPORTATION

Federal Aviation Administration

Noise Exposure Map Notice, Southwest Florida International Airport, Fort Myers, FL

AGENCY: Federal Aviation Administration, DOT.

ACTION: Notice.

SUMMARY: The Federal Aviation Administration (FAA) announces its determination that the Noise Exposure Maps submitted by the Lee County Port Authority for the Southwest Florida International Airport under the provisions of 49 U.S.C. 47501 et. Seq (Aviation Safety and Noise Abatement Act) and 14 CFR Part 150 are in compliance with applicable requirements.

DATES: This notice is effective February 8, 2013, and is applicable beginning January 30, 2013.

FOR FURTHER INFORMATION CONTACT: Allan Nagy, Federal Aviation Administration, Orlando Airports District Office, 5950 Hazeltine National Drive Citadel International Building, Suite 400, Orlando, FL 32822, 407-812-6331.

SUPPLEMENTARY INFORMATION: This notice announces that the FAA finds that the Noise Exposure Maps submitted for Southwest Florida International Airport are in compliance with applicable requirements of Title 14 Code of Federal Regulations (CFR) Part 150, effective November 15, 2012. Under 49 U.S.C. section 47503 of the Aviation Safety and Noise Abatement Act (the Act), an airport operator may submit to the FAA Noise Exposure Maps which meet applicable regulations and which depict non-compatible land uses as of the date of submission of such maps, a description of projected aircraft operations, and the ways in which such operations will affect such maps. The Act requires such maps to be developed in consultation with interested and affected parties in the local community, government agencies, and persons using the airport. An airport operator who has submitted Noise Exposure Maps that are found by FAA to be in compliance with the requirements of 14 CFR Part 150, promulgated pursuant to the Act, may submit a Noise Compatibility Program for FAA approval which sets forth the measures the airport operator has taken or proposes to take to reduce existing non-compatible uses and prevent the introduction of additional non-compatible uses.

The FAA has completed its review of the Noise Exposure Maps and accompanying documentation submitted by the Lee County Port Authority. The documentation that constitutes the “Noise Exposure Maps” as defined in Section 150.7 of 14 CFR Part 150 includes: Table 4.1, RSW Noise Measurement Locations; Table 7.1, 2011 Annual Operations; Table 7.2, 2011 Annual-Average Day Fleet Mix (Itinerant Operations); Table 7.3, 2011 Annual-Average Day Fleet Mix (Local Operations); Table 7.4, 2017 Annual Operations; Table 7.5, 2017 Annual-Average Day Fleet Mix (Itinerant Operations); Table 7.6, 2017 Annual-Average Day Fleet Mix (Local Operations); Table 7.7, 2011 and 2017 Air Carrier Aircraft Stage Length Percentages; Table 7.8, 2011 Runway Use Percentages; Table 7.9, 2011 and 2017 Departure Flight Track Use Percentages; Table 7.10, 2011 and 2017 Arrival Flight Track Use Percentages; Table 7.11, 2011 and 2017 Local (Touch and Go) Flight Track Use Percentages; Table 8.1, 2012 DNL Contour Surface Areas; Table 8.2, 2017 DNL Contour Surface Areas; Table 8.3, 14 CFR Part 150 Land Use Compatibility Guidelines; Table 8.4, Lee County Airport Noise Zones; Figure 1.2, Airport Location Map; Figure 1.3, Existing Land Uses; Figure 2.1, Airport Diagram; Figure 2-2, U.S. National Airspace System; Figure 2.3, Southwest Florida International Airspace; Figure 2-7, RSW Published Arrivals and Departures; Figure 5.1, RSW RNAV Departures Established Since the 2006 14 CFR Part 150 Study; Figure 5-2, RSW RNAV Arrivals Established Since the 2006 14 CFR Part 150 Study; Figure 5-3, Monthly Operations; Figure 7.1, Modeled Flight Tracks—Northeast Flow; Figure 7.2, Modeled Flight Tracks—Southwest Flow; Figure 7.3, Modeled Flight Tracks—Touch and Go; Figure 8.1, 2012 DNL Noise Contours; Figure 8.2, 2017 DNL Noise Contours; Figure 8.3, Future Land Use; Figure 8.4, Airport Noise Zones; Appendix C, RSW Published IFR Procedures; Appendix L, Map “A” 2012 NEM and Map “B”, 2017; NEM Chapter 9, Page 9-1, Airport Sponsor's Noise Exposure Map Certification; November 1, 2012 Airport Sponsor NEM Submittal Letter.

The FAA has determined that these Noise Exposure Maps and accompanying documentation are in compliance with applicable requirements. This determination is effective on January 30, 2013.

FAA's determination on the airport operator's Noise Exposure Maps is limited to a finding that the maps were developed in accordance with the procedures contained in Appendix A of 14 CFR Part 150. Such determination does not constitute approval of the airport operator's data, information or plans, or a commitment to approve a Noise Compatibility Program or to fund the implementation of that Program. If questions arise concerning the precise relationship of specific properties to noise exposure contours depicted on a Noise Exposure Map submitted under Section 47503 of the Act, it should be noted that the FAA is not involved in any way in determining the relative locations of specific properties with regard to the depicted noise exposure contours, or in interpreting the Noise Exposure Maps to resolve questions concerning, for example, which properties should be covered by the provisions of Section 47506 of the Act. These functions are inseparable from the ultimate land use control and planning responsibilities of local government. These local responsibilities are not changed in any way under 14 CFR Part 150 or through FAA's review of Noise Exposure Maps. Therefore, the responsibility for the detailed overlaying of noise exposure contours onto the map depicting properties on the surface rests exclusively with the airport operator that submitted those maps, or with those public agencies and planning agencies with which consultation is required under Section 47503 of the Act. The FAA has relied on the certification by the airport operator, under Section 150.21 of 14 CFR Part 150, that the statutorily required consultation has been accomplished.

Copies of the full Noise Exposure Maps documentation and of the FAA's evaluation of the maps are available for examination at the following locations: Federal Aviation Administration, Orlando Airports District Office, 5950 Hazeltine National Drive, Citadel International Building, Suite 400, Orlando, FL 32822.

Questions may be directed to the individual named above under the heading, FOR FURTHER INFORMATION CONTACT.

Issued in Orlando, FL, on January 30, 2013.
Bart Vernace,
Manager, Orlando Airports District Office, Federal Aviation Administration.

[FR Doc. 2013-02894 Filed 2-7-13; 8:45 am]

BILLING CODE 4910-13-P